DEPARTMENT OF COMMERCE

International Trade Administration

[A-427-822]

Notice of Postponement of Final Determination of Antidumping Duty Investigation: Certain Cold-Rolled Carbon Steel Flat Products from France

AGENCY: Import Administration, International Trade Administration, Department of Commerce.

ACTION: Notice of Postponement of Final Determination of Antidumping Duty Investigation.

EFFECTIVE DATE: June 14, 2002.)

FOR FURTHER INFORMATION CONTACT: Angelica Mendoza, John Drury or Abdelali Elouaradia at (202) 482-3019, (202) 482-0195 and (202) 482-1374, respectively; AD/CVD Enforcement, Office 8, Group III, Import Administration, International Trade Administration, U.S. Department of Commerce, 14th Street and Constitution Avenue, NW, Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (Department's) regulations are to the regulations at 19 CFR part 351 (April 2001).

Background

On October 18, 2001, the Department initiated antidumping duty investigations of CRCS from a number of countries, including France. See Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela, 66 FR 54198, (October 26, 2001). The period of investigation (POI) is July 1, 2000 through June 30, 2001. On May 9, 2002, the Department published the notice of preliminary determination. See Notice of Preliminary Determination of Sales at Not Less Than Fair Value: Certain Cold-Rolled Carbon Steel Flat Products from France, 67 FR 31204 (Preliminary Determination). On May 29, 2002, the Department published its amended preliminary determination in this investigation. See Notice of Amended Preliminary Determination of Sales at Less Than Fair Value: Certain Cold-Rolled Carbon Steel Flat Products from France, 67 FR 37387 (Amended Preliminary Determination).

Postponement of Final Determination

Section 735(a)(2) of the Act provides that a final determination may be postponed until no later than 135 days after the publication of the preliminary determination if, in the event of an affirmative determination, a request for such postponement is made by exporters who account for a significant proportion of exports of the subject merchandise, or in the event of a negative preliminary determination, a request for such postponement is made by petitioners. The Department's regulations, at 19 CFR 351.210(e)(2), require that requests by respondents for postponement of a final determination be accompanied by a request for extension of provisional measures from a four-month period to not more than six months.

On May 23, 2002, Usinor Group (respondent) requested that the Department, pursuant to Section 735(a)(2) of the Act, postpone its final determination until not later than 135 days after the date of the publication of the preliminary determination in the Federal Register and requested extension of provisional measures to a period not to exceed six months. In accordance with 19 CFR 351.210(b)(2)(ii), because the request was filed in proper form and because (1) our amended preliminary determination was affirmative, (2) the respondent requesting the postponement accounts for a significant proportion of exports of the subject merchandise, and (3) no compelling reasons for denial exist, we are granting the respondent's request and are postponing the final determination until no later than 135 days after the publication of the preliminary determination in the Federal Register. Therefore, in accordance with section 735(a)(2) of the Act, the Department is postponing the final determination of the aforementioned investigation until September 23, 2002. Suspension of liquidation will be extended accordingly.

This notice is published in accordance with section 735(a)(2) of the Act.

Dated: June 6, 2002
Faryar Shirzad,
Assistant Secretary for Import Administration.

[FR Doc. 02-15099 Filed 6-13-02; 8:45 am]

BILLING CODE 3510-DS-S